DEPARTMENT OF TRANSPORTATION

Federal Aviation Administration

14 CFR Part 39

[Docket No. FAA-2011-0475; Directorate Identifier 2010-NM-199-AD]

RIN 2120-AA64

Airworthiness Directives; The Boeing Company Model 757 Airplanes

AGENCY: Federal Aviation Administration (FAA), DOT.

ACTION: Notice of proposed rulemaking (NPRM).

SUMMARY: We propose to adopt a new airworthiness directive (AD) for the products listed above. For certain airplanes, this proposed AD would require the installation of new relays adjacent to two of the spoiler control modules that would prevent the deployment of certain spoiler pairs when landing flaps are selected. For certain other airplanes, this proposed AD would require torquing the bracket assembly installation nuts and ground stud nuts, and doing bond resistance tests between the bracket assemblies and the terminal lugs on the ground studs. This proposed AD is prompted by numerous reports of unintended lateral oscillations during the final approach, just before landing. We are proposing this AD to reduce the chance of unintended lateral oscillations near touchdown, which could result in loss of lateral control of the airplane, and consequent airplane damage or injury to flight crew and passengers.

DATES: We must receive comments on this proposed AD by July 8, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; phone: 206-544-5000, extension 1; fax: 206-766-5680; e-mail: me.boecom@boeing.com; Internet: https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Marie Hogestad, Aerospace Engineer, Flight Controls, ANM-130S, Seattle Aircraft Certification Office (ACO), FAA, 1601 Lind Avenue, SW., Renton, Washington 98057-3356; phone: 425-917-6418; fax: 425-917-6590; e-mail: marie.hogestad@faa.gov.

SUPPLEMENTARY INFORMATION:

Comments Invited

We invite you to send any written relevant data, views, or arguments about this proposal. Send your comments to an address listed under the ADDRESSES section. Include “Docket No. FAA-2011-0475; Directorate Identifier 2010-NM-199-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received numerous reports of Boeing 757 events where the flight crews experienced unintended lateral oscillations during the final approach, just before landing. One event resulted in a nose gear collapse after a hard landing and another event resulted in a tail strike during a landing that was aborted because of the oscillations. The oscillations are characterized by large wheel inputs at high rates that are out of phase with the airplane response and typically occur under certain gusty and turbulent wind conditions during landing. Unintended lateral oscillations near touchdown could result in loss of lateral control of the airplane, and consequent airplane damage or injury to flight crew and passengers.

Related Rulemaking

On October 31, 2006, we issued AD 2006-23-15, Amendment 39-14827 (71 FR 66657, November 16, 2006). That AD applies to the Boeing Model 757 airplanes affected by this NPRM. That AD requires installing a control wheel damper assembly at the first officer's drum bracket assembly and aileron quadrant beneath the flight deck floor in section 41, doing a functional test and adjustment of the new installation, and doing related investigative/corrective actions if necessary. For certain airplanes, that AD also requires doing an additional adjustment test of the re-located control wheel position sensor, and an operational test of the flight data recorder and the digital flight data acquisition unit. AD 2006-23-15 also requires installing vortex generators on the leading edge of the outboard main flap on certain airplanes. The addition of a wheel damper prevents large abrupt pilot lateral control wheel inputs and the addition of vortex generators creates vortices over the flap surface to help mitigate a sudden and premature airflow separation when spoilers are deployed in response to large control wheel movements. We issued that AD as interim action to reduce unintended roll oscillations near touchdown, which could result in loss of lateral control of the airplane, and consequent airplane damage or injury to the flight crew and passengers.

The preamble to AD 2006-23-15 specifies that we consider the requirements “interim action” and that the manufacturer is investigating an additional modification that might further reduce or eliminate the unsafe condition. AD 2006-23-15 explains that we might consider further rulemaking if a modification is developed, approved, and available. The manufacturer now has developed such a modification that will further reduce the effects of the unsafe condition, and we have determined that further rulemaking is indeed necessary; this proposed AD follows from that determination. However, the requirements of AD 2006-23-15 will continue in effect.

Relevant Service Information

We reviewed Boeing Alert Service Bulletin 757-27A0152, Revision 1, dated June 30, 2010. This service information identifies two configurations. Configuration 1 includes airplanes that have not accomplished Boeing Alert Service Bulletin 757-27A0152, dated April 29, 2009; and Configuration 2 identifies airplanes on which Boeing Alert Service Bulletin 757-27A0152, dated April 29, 2009, has been accomplished, but need additional work. For Configuration 1 airplanes, this service information describes procedures for changing the E3-1 electronics shelf by installing 3 new bracket assemblies and 3 new relays, changing wire bundle W1265, and changing wire bundle W4471 between the E3-1 electronics shelf and the E5-1 electronics shelf. Additionally, this service information specifies doing an operational test of the spoiler/speedbrake control system. These changes will reduce the lateral control capability by disabling spoiler pairs 1 and 12, and 5 and 8, from responding to control wheel commands when the flaps are deployed in landing configuration (25 and 30 degrees). The speedbrake operation will be unaffected in-air and during on-ground operations. To maintain desired lateral controllability, spoiler pair 1 and 12 will be re-engaged if the right hydraulic system fails.

For Configuration 2 airplanes, this service information describes procedures for torquing the bracket assembly installation nuts and ground stud nuts, and doing bond resistance tests between the bracket assemblies and the terminal lugs on the ground studs.

FAA's Determination

We are proposing this AD because we evaluated all the relevant information and determined the unsafe condition described previously is likely to exist or develop in other products of the same type designs.

Proposed AD Requirements

This proposed AD would require accomplishing the actions specified in the service information described previously.

Costs of Compliance

We estimate that this proposed AD will affect 686 airplanes of U.S. registry.

We estimate the following costs to comply with this proposed AD:

Estimated costs
Action | Labor cost | Parts cost | Cost per product | Cost on U.S. operators
Installation Group 1, Configuration 1 (55 airplanes) | 35 work-hours × $85 per hour = $2,975 | $4,691 | $7,666 | $421,630
Installation Group 2, Configuration 1 (592 airplanes) | 32 work-hours × $85 per hour = $2,720 | 4,610 | 7,330 | 4,339,360
Installation Group 3, Configuration 1 (12 airplanes) | 32 work-hours × $85 per hour = $2,720 | 4,619 | 7,339 | 88,068
Installation Group 4, Configuration 1 (25 airplanes) | 32 work-hours × $85 per hour = $2,720 | 4,610 | 7,330 | 183,250
Installation Group 5, Configuration 1 (2 airplanes) | 35 work-hours × $85 per hour = $2,975 | 4,701 | 7,676 | 15,352
Torque Bracket Assembly and Bond Tests, Groups 1-5 Configuration 2 | 12 work-hours × $85 per hour = $1,020 | 0 | 1,020 | 699,720

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-0475; Directorate Identifier 2010-NM-199-AD.

Comments Due Date

(a) We must receive comments by July 8, 2011.

Affected ADs

(b) None.

Applicability

(c) This AD applies to The Boeing Company Model 757-200, -200PF, -200CB, and -300 series airplanes, certificated in any category, as identified in Boeing Alert Service Bulletin 757-27A0152, Revision 1, dated June 30, 2010.

Subject

(d) Joint Aircraft System Component (JASC)/Air Transport Association (ATA) of America Code 27: Flight Control System.

Unsafe Condition

(e) This AD was prompted by numerous reports of unintended lateral oscillations during the final approach, just before landing. We are issuing this AD to reduce the chance of unintended lateral oscillations near touchdown, which could result in loss of lateral control of the airplane, and consequent airplane damage or injury to flight crew and passengers.

Compliance

(f) Comply with this AD within the compliance times specified, unless already done.

Installation

(g) Within 60 months after the effective date of this AD, do the applicable actions specified in paragraphs (g)(1) and (g)(2) of this AD.

(1) For Configuration 1 airplanes as defined in Boeing Alert Service Bulletin 757-27A0152, Revision 1, dated June 30, 2010, install three bracket assemblies, three new relays, and make changes to the wire bundles, in accordance with the Accomplishment Instructions of Boeing Alert Service Bulletin 757-27A0152, Revision 1, dated June 30, 2010.

(2) For Configuration 2 airplanes as defined in Boeing Alert Service Bulletin 757-27A0152, Revision 1, dated June 30, 2010, torque the bracket assembly nuts and ground stud nuts, and do bond resistance tests to verify bonding requirements are met, in accordance with the Accomplishment Instructions of Boeing Alert Service Bulletin 757-27A0152, Revision 1, dated June 30, 2010.

Alternative Methods of Compliance (AMOCs)

(h)(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

Related Information

(i) For more information about this AD, contact Marie Hogestad, Aerospace Engineer, Flight Controls, ANM-130S, Seattle Aircraft Certification Office (ACO), FAA, 1601 Lind Avenue, SW., Renton, Washington 98057-3356; phone: 425-917-6418; fax: 425-917-6590; e-mail: marie.hogestad@faa.gov.

(j) For service information identified in this AD, contact Boeing Commercial Airplanes, Attention: Data & Services Management, P. O. Box 3707, MC 2H-65, Seattle, Washington 98124-2207; phone: 206-544-5000, extension 1; fax: 206-766-5680; e-mail: me.boecom@boeing.com; Internet: https://www.myboeingfleet.com. You may review copies of the referenced service information at the FAA, Transport Airplane Directorate, the FAA, 1601 Lind Avenue, SW., Renton, Washington. For information on the availability of this material at the FAA, call 425-227-1221.

Issued in Renton, Washington, on May 16, 2011.
Ali Bahrami,
Manager, Transport Airplane Directorate, Aircraft Certification Service.

[FR Doc. 2011-12728 Filed 5-23-11; 8:45 am]

BILLING CODE 4910-13-P